DEPARTMENT OF HOUSING AND URBAN DEVELOPMENT

[Docket No. FR-7094-N-05; OMB Control No. 2506-0213]

60-Day Notice of Proposed Information Collection: Veterans Housing Rehabilitation and Modification and Pilot Program

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 5, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Urnell Johnson, Paperwork Reduction Act Liaison, Department of Housing and Urban Development, 451 7th Street SW, Room 7232, Washington, DC 20410.

FOR FURTHER INFORMATION CONTACT: Holly A. Kelly, Director, Office of Rural Housing and Economic Development (ORHED), 451 7th Street SW, Washington, DC 20410; email Holly.A.Kelly@hud.gov, telephone (202) 402-6324. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Holly Kelly.

SUPPLEMENTARY INFORMATION: This notice informs the public that HUD is seeking approval from OMB for the information collection described in Section A.

A. Overview of Information Collection

Title of Information Collection: Veterans Housing Rehabilitation and Modification and Pilot Program.

OMB Approval Number: 2506-0213.

Type of Request: Extension of a currently approved collection.

Form Number: HUD 2880; HUD 27061; HUD 27300; and HUD-50153.

Description of the need for the information and proposed use: The Veterans Housing Rehabilitation and Modification Pilot Program funding in fiscal year 2023 was provided under the Further Consolidated Appropriations Act, 2020 (Pub. L. 116-94, approved December 20, 2019), the Consolidated Appropriations Act of 2018 (Pub. L. 115-141), and the Consolidated Appropriations Action, 2019 (Pub. L. 116-6). The purpose of VHRMP is to award grants to nonprofit veteran's service organizations to rehabilitate and modify the primary residence of disabled and low-income veterans. The program goal is to support eligible activities that serve the following objectives: (1) modify and rehabilitate the primary residence of disabled and low-income veterans; (2) rehabilitate such residence that is in a state of interior and exterior disrepair; and (3) install energy efficient features or equipment. Information is required to rate and rank competitive applications and to ensure eligibility of applicants for funding. Quarterly reporting is required to monitor grant management.

Respondents: Public, Not-for-profit institutions.

Estimated Number of Respondents: 25.

Estimated Number of Responses: 25.

Frequency of Response: 4.

Average Hours per Response: 7.75.

Total Estimated Burden Hours: 343.50.

Information collection | Number of respondents | Frequency of response | Responses per annum | Burden hour per response | Annual burden hours | Hourly cost per response | Annual cost
HUD-2880 | 25 | 1 | 25 | 2.0 | 50.00 | $80.15 | $4,008.00
HUD-27061 | 25 | 1 | 25 | 0.5 | 12.50 | 80.15 | 1,002.00
HUD-27300 | 25 | 1 | 25 | 3.0 | 75.00 | 80.15 | 6,011.00
HUD-50153 | 25 | 1 | 25 | 0.25 | 6.25 | 80.15 | 501.00
Grant Reporting (DRGR) | 25 | 4 | 100 | 2.0 | 200.00 | 80.15 | 16,030.00
Total |  |  | 200.00 | 7.75 | 343.50 |  | 27,552.00
Annualized Cost @$80.15/hr.: $166,172.00.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

David Woll,
Principal Deputy Assistant Secretary, Office of Community and Planning Development.

[FR Doc. 2025-10302 Filed 6-5-25; 8:45 am]

BILLING CODE 4210-67-P